DEPARTMENT OF TRANSPORTATION

Federal Highway Administration

DEPARTMENT OF HOMELAND SECURITY

Coast Guard

Gravina Access Project, Tongass Narrows, Ketchikan Gateway Borough, AK

AGENCY: Federal Highway Administration. U.S. Coast Guard.

ACTION: Notice of public hearing; Request for comments. Notice of availability of draft environmental impact statement (EIS).

SUMMARY: the Federal Highway Administration (FHWA), together with U.S. Coast Guard and the Alaska Department of Transportation and Public Facilities, has issued a Gravina Access Project Draft Environmental Impact Statement (EIS) on August 6, 2003. The agencies will jointly hold two public hearings to receive information concerning the environmental impacts on the project, including marine navigation impacts.

The project would construct a bridge or new ferry across Tongass Narrows in southern Southeast Alaska. The cities of Ketchikan and Saxman, along with surrounding developed areas within the Ketchikan Gateway Borough on Revillagigedo Island, are separated by Tongass Narrows from Ketchikan International Airport and developable land within the borough on Gravina Island. Ferry service currently connects Ketchikan to the airport terminal, but there is no connection to other lands on Gravina Island. The project proposes to improve transportation across Tongass Narrows by enhanced ferry or by bridge. Nine alternatives, plus No Action Alternative, are under consideration. All share in common a spine road around the airport to provide access to the airport and to other developable lands around the airport. Other developable lands include airport reserve lands, State of Alaska Mental Health Trust lands, University of Alaska lands, and private lands. The Ketchikan Gateway Borough is within Tongass National Forest.

DATES: The public hearings will start at 7 p.m. on Wednesday, September 17, and Thursday, September 18, 2003. On Tuesday September 16, from 3 p.m. to 8 p.m., a public information open house will be held to enable interested parties to learn more about the project and ask questions. Display materials will be available during the open house and beginning at 5 p.m., September 17 and 18, prior to the public hearings. Comments must be received by October 6, 2003.

ADDRESSES: The public hearings and associated open house will be held at the West Coast Cape Fox Lodge, 800 Venetia Way, Ketchikan, AK 99901. Comments on the Draft Environmental Impact Statement should be sent to Mr. Reuben Yost, Special Projects Manager, Alaska Department of Transportation and Public Facilities—Southeast Region, 6860 Glacier Highway, Juneau, AK 99801-7999. Please submit all comments in an unbound format no larger than 8½ x 11 inches and suitable for copying.

FOR FURTHER INFORMATION CONTACT: Mr. Tim A. Haugh, Environment and Right-of-Way Programs Manager, Alaska Division FHWA, P.O. Box 21648, Juneau, Alaska 99802, Telephone (907) 586-7418; Mr. James Helfinstine, Chief, Bridge Administration Program, Commander (OAN), Seventeenth Coast Guard District, P.O. Box 25517, Juneau, AK 99802-5517, Telephone (907) 463-2268; Mr. Reuben Yost, P.E., Special Projects Manager, DOT&PF Southeast Region, 6860 Glacier Highway, Juneau, Alaska 99801-7999, Telephone (907) 465-1828

SUPPLEMENTARY INFORMATION:

Background

The Gravina Access Project is one of 17 high-priority infrastructure projects in the State of Alaska to be funded under the Federal Transportation Equity Act for the 21st Century (TEA-21), enacted in 1998. The Draft EIS examines a range of alternatives: Four bridge alternatives that cross Tongass Narrows near the airport, two bridge alternatives that cross Pennock Island southeast of the airport, and three ferry alternatives that would supplement the existing airport ferry service with a second ferry at different locations. All nine build alternatives tie into Tongass Avenue, which parallels the coast of Revillagigedo Island. All nine include a spine road around the western side and southern end of the airport, providing access to the airport terminal and other developable lands.

The road associated with each alternative would consist of two lanes. The length of the road varies from 16,670 fee to 42,100 feet, depending on alternative. The ferry alternatives each include docks, terminal buildings, parking areas, and a ferry vessel. The location of the terminals and crossings vary. The bridge alternatives are either 120 feet high (to pass Alaska Marine Highway vessels) or 200 feet high (to pass the largest cruise ships sailing in Southeast Alaska). Two bridge alternatives cross Pennock Island, which divides Tongass Narrows.

These alternatives require bridges over both the east and west channels. Alternative F1, a Pennock Island option that has a West Channel bridge 120 feet high and an East Channel bridge 200 feet high, is the agency-preferred alternative.

The FHWA is the lead Federal agency for the environmental documentation. The Alaska Department of Transportation and Public Facilities has written the environmental documentation on behalf of FHWA. The U.S. Army Corps of Engineers, U.S. Coast Guard, Ketchikan Gateway Borough, City of Ketchikan, and City of Saxman are cooperating agencies for the project.

The public hearings will provide a public forum that affords a full opportunity for presenting views on the social, economic, and environmental effects of the alternatives including impacts on navigation and marine transportation. Comments are invited from all interested parties and should be directed by October 6, 2003 to Mr. Reuben Yost at the address provided above. Information on the project and the Draft EIS are available electronically at http://www.gravina-access.com.

Procedural

Individuals and representatives of organizations that wish to speak at the public hearings may sign in as they arrive at the WestCoast Cape Fox Lodge. Individuals will have 3 minutes to speak and organizations 5 minutes. Each person or organization will be afforded one opportunity to speak only. Speakers will be called in the order they signed in. Those who wish to be placed on the project mailing list may submit a request to Mr. Reuben Yost, listed above under addresses.

Information on Services for Individuals With Disabilities

Appropriate aids and services for qualified individuals with disabilities or non-English-speaking persons will be provided upon request. Please make requests for these services in writing; by telephone or via e-mail to Mr. Reuben Yost at the contacts listed under addresses above, or via teletype 1-907-465-4647; or via e-mail at Reuben _Yost@dot.state.ak.us. Any requests for an oral or sign language interpreter must be received by September 9, 2003.

Dated: July 31, 2003.
J. A. Schott,
Captain, U.S. Coast Guard, Commander, 17th Coast Guard District, Acting.
David C. Miller,
Division Administrator, Federal Highway Administration.

[FR Doc. 03-20822 Filed 8-14-03; 8:45 am]

BILLING CODE 4910-22-M; 4910-15-M